FEDERAL COMMUNICATIONS COMMISSION

Notice of Public Information Collection(s) Being Reviewed by the Federal Communications Commission for Extension Under Delegated Authority, Comments Requested

May 15, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 24, 2000. If you anticipate that you will be submitting comments, but find it difficult to do so within the period of time allowed by this notice, you should advise the contact listed below as soon as possible.

ADDRESSES: Direct all comments to Les Smith, Federal Communications Commission, Room 1 A-804, 445 Twelfth Street, SW, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0921.

Title: Petitions for LATA Boundary Modification for the Deployment of Advanced Services.

Form Number: N/A.

Type of Review: Extension.

Respondents: Business or other for profit.

Number of Respondents: 20.

Estimated Time Per Response: 8 Hours (avg.).

Total Annual Burden: 160 Hours.

Estimated Annual Reporting and Recordkeeping Cost Burden: $0.

Frequency of Response: On occasion; Third Party Disclosure.

Needs and Uses: Bell Operating Companies (BOCs) that petition for LATA boundary modifications to encourage the deployment of advanced services on a reasonable and timely basis are requested to include information in accordance with specified criteria. The Commission will use this information to review the petitions. The petitioning BOC is required to serve its state commission with a copy of the petition.

OMB Control Number: 3060-0681.

Title: Toll-Free Service Access codes—CC Docket No. 95-155(47 CFR Part 52, Subpart D, Sections 52.101-52.111).

Form Number: N/A.

Type of Review: Extension.

Respondents: Business or other for profit.

Number of Respondents: 168.

Estimated Time Per Response: 15 Hours (avg.).

Total Annual Burden: 2520 Hours.

Estimated Annual Reporting and Recordkeeping Cost Burden: $0.

Frequency of Response: On occasion.

Needs and Uses: Responsible Organizations (RespOrgs) who wish to make a specific toll free number unavailable must submit written requests to the toll free database administrator. The request shall include the appropriate documentation of the reason for the request.

OMB Control Number: 3060-0579.

Title: Expanded Interconnection with Local Telephone Company Facilities for Interstate Switched Transport Services.

Form Number: N/A.

Type of Review: Extension.

Respondents: Business or other for profit.

Number of Respondents: 16.

Estimated Time Per Response: 124.7 Hours (avg.).

Total Annual Burden: 1996 Hours.

Estimated Annual Reporting and Recordkeeping Cost Burden: $0.

Frequency of Response: On occasion.

Needs and Uses: Local exchange carriers are required to make tariff filings to provide new switched transport expanded interconnection services and to comply with Commission standards governing nonrecurring charges.

OMB Control Number: 3060-0577.

Title: Expanded Interconnection with Local Telephone Company Facilities.

Form Number: N/A.

Type of Review: Extension.

Respondents: Business or other for profit.

Number of Respondents: 16.

Estimated Time Per Response: 15 Hours (avg.).

Total Annual Burden: 240 Hours.

Estimated Annual Reporting and Recordkeeping Cost Burden: $0.

Frequency of Response: On occasion.

Needs and Uses: Local exchange carriers are required to make tariff filings to provide public notice of fresh look opportunity at their offices and to comply with Commission standards governing nonrecurring reconfiguration charges, expanded interconnection connection charge rate structure and fresh look.

Federal Communications Commission.
Magalie Roman Salas,
Secretary.

[FR Doc. 00-13038 Filed 5-23-00; 8:45 am]

BILLING CODE 6712-01-P